DEPARTMENT OF HEALTH AND HUMAN SERVICES

Health Resources and Services Administration

Advisory Committee; Notice of Meeting

In accordance with section 10(a)(2) of the Federal Advisory Committee Act (Pub. L. 92-463), announcement is made of the following National Advisory body scheduled to meet during the month of September 2002.

The National Advisory Committee on Rural Health will convene its forty-second meeting in the time and place specified below:

Name: National Advisory Committee on Rural Health.

Date and Time: September 8, 2002, 1:30 p.m.-5 p.m.; September 9, 2002, 8:30 a.m.-4:45 p.m.; September 10, 2002, 8 a.m.-10:30 a.m.

Place: Chico Hot Springs Resort, P.O. Box 29, Pray, Montana 59047, Phone: 406-333-4933.

The meeting is open to the public.

Purpose: The National Advisory Committee on Rural Health provides advice and recommendations to the Secretary with respect to the delivery, research, development and administration of health care services in rural areas.

Agenda: Sunday, September 8, at Chico Hot Springs Resort at 1:30 p.m. the chairperson, the Honorable David Beasley, will open the meeting and welcome the Committee members. The first plenary session will consist of presentations by the Montana Quality Improvement Organization and the Montana Health Quality Network. This will be followed by reports from the Quality and Workforce Subcommittees. At 3:45 p.m. the Committee will hear a presentation from Libby Hospital and an update on the Department of Health and Human Services Rural Initiative.

Monday, September 9, at 8:30 a.m. the Committee will depart for a site visit at the Big Timber Hospital. At 11 a.m. the Committee will depart for a site visit to Livingston, Montana. Transportation to these locations will not be provided to the general public. At 3:30 p.m. the Committee will hear a presentation from a representative of the Governor's Health Workforce Study.

The final plenary session will be convened on Tuesday, September 10. Beginning at 8 a.m. there will be a review of the site visits and a report from the Quality Subcommittee. The meeting will conclude with a discussion of the Montana presentations and what issues to raise in the Committee's meeting summary that will be sent to the Secretary. The meeting will be adjourned at 10:30 a.m.

Anyone requiring information regarding the subject Committee should contact Tom Morris, Executive Secretary, National Advisory Committee on Rural Health, Health Resources and Services Administration, Room 9A-55, Parklawn Building, 5600 Fishers Lane, Rockville, MD 20857, telephone (301) 443-0835, Fax (301) 443-2803.

Persons interested in attending any portion of the meeting should contact Michele Pray, Office of Rural Health Policy (ORHP), (301) 443-0835. The National Advisory Committee meeting agenda will be posted on ORHP's Web site, http://www.ruralhealth.hrsa.gov.

Dated: August 2, 2002.
Jane M. Harrison,
Director, Division of Policy Review and Coordination.

[FR Doc. 02-20040 Filed 8-7-02; 8:45 am]

BILLING CODE 4165-15-P 3